DEPARTMENT OF HEALTH AND HUMAN SERVICES

Administration for Children and Families

[CFDA Number: 93.612]

Announcement of the Award of a Single Source Emergency Grant to the Oglala Sioux Tribe in Pine Ridge, SD

AGENCY: Administration for Native Americans, ACF, HHS.

ACTION: Announcement of the award of a single source, emergency grant to the Oglala Sioux Tribe in Pine Ridge, SD to address the critically high levels of youth suicide on the reservation since December 2014.

SUMMARY: The Administration for Children and Families (ACF), Administration for Native Americans (ANA) announces the award of a single source emergency grant in the amount of $400,000 to the Oglala Sioux Tribe to provide empowerment activities for youth in order to address the critically high levels of youth suicide on the reservation since December 2014.

DATES: The timeframe for the initial award is July 31, 2015 to July 30, 2016.

FOR FURTHER INFORMATION CONTACT: Carmelia Strickland, Director, Division of Program Operations, Administration for Native Americans, 370 L'Enfant Promenade SW., Washington, DC 20047. Telephone: 877-922-9262; Email: Carmelia.strickland@acf.hhs.gov.

SUPPLEMENTARY INFORMATION: The Administration for Native Americans (ANA), Administration for Children and Families, has awarded an emergency single source grant to the Oglala Sioux Tribe (OST) for programs whose goal is to empower youth ages 8 to 24 to make changes in their communities, to be proud of their heritage, and to inspire them to celebrate life so that they may see that there is a positive future for them. It is intended that this program will have a 24-month project period so that another 12-month budget period will be funded noncompetitively for $400,000 in FY 2016. In testimony before the Senate Committee on Indian Affairs on June 24, 2015, Oglala Sioux Tribe President John Yellowbird Steele's testimony stated that 11 young people on the Pine Ridge Reservation have been lost to suicide since December. In addition, at least another 176 of the youth have attempted suicide in that period, according to the Indian Health Service, and 229 more were treated for suicidal ideation.

The awarded project is designed to increase positive youth empowerment activities in all nine districts on the Pine Ridge Indian Reservation through the development of Student Youth Councils, peer to peer mentoring, and Lakota cultural awareness activities. The award was made under ANA's program for Social and Economic Development Strategies (SEDS). The OST has been designated as a Federal government Promise Zone, because of the severe financial and economic status in the area in which they live. The Pine Ridge Reservation is also located in Shannon County, which is often referred to as the poorest county in the United States.

Statutory Authority: This program is authorized under § 803(a) of the Native American Programs Act of 1974 (NAPA), 42 U.S.C. 2991b.

Christopher Beach,
Senior Grants Policy Specialist, Division of Grants Policy, Office of Administration.

[FR Doc. 2015-22957 Filed 9-11-15; 8:45 am]

BILLING CODE 4184-34-P